DEPARTMENT OF THE INTERIOR

National Park Service

[NPS-WASO-NAGPRA-13725; PPWOCRADN0-PCU00RP14.R50000]

Notice of Intent To Repatriate Cultural Items: U.S. Department of the Interior, Bureau of Indian Affairs, Washington, DC, and Arizona State Museum, University of Arizona, Tucson, AZ

AGENCY: National Park Service, Interior.

ACTION: Notice.

SUMMARY: The U.S. Department of the Interior, Bureau of Indian Affairs, and Arizona State Museum, University of Arizona, in consultation with the appropriate Indian tribes or Native Hawaiian organizations, have determined that the cultural item listed in this notice meets the definition of a sacred object. Lineal descendants or representatives of any Indian tribe or Native Hawaiian organization not identified in this notice that wish to claim these cultural items should submit a written request to the U.S. Department of the Interior, Bureau of Indian Affairs. If no additional claimants come forward, transfer of control of the cultural items to the lineal descendants, Indian tribes, or Native Hawaiian organizations stated in this notice may proceed.

DATES: Lineal descendants or representatives of any Indian tribe or Native Hawaiian organization not identified in this notice that wish to claim this cultural item should submit a written request with information in support of the claim to the U.S. Department of the Interior, Bureau of Indian Affairs at the address in this notice by October 30, 2013.

ADDRESSES: Anna Pardo, Museum Program Manager/NAGPRA Coordinator, U.S. Department of the Interior, Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3005, of the intent to repatriate a cultural item under the control of the U.S. Department of the Interior, Bureau of Indian Affairs, Washington, DC, and in the physical custody of the Arizona State Museum, University of Arizona, Tucson, AZ, that meets the definition of sacred object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

At an unknown date in 1972 or 1973, one cultural item was removed from a site near Cave Spring, northwest of Shungopavi Village on Second Mesa, AZ. A frequent visitor to the Hopi Reservation removed this item and gave it away as a wedding present. The recipient of this item donated it to the Arizona State Museum in February 2008. The one sacred object is a bowl, identified by staff at the Arizona State Museum as Tusayan White Ware, and probably Flagstaff Black-on-white, a prehistoric pottery type, which dates to approximately A.D. 1200.

This item appears to be Hopi by virtue of the circumstances of its acquisition, and through identification by Hopi cultural specialists. This object is regarded as a sacred object and used by the Hopi as a cleansing medicine bowl for the practice of the Hopi ceremonies, including the Katsina home dances. The Hopi Cultural Preservation Office of the Hopi Tribe hereby asserts cultural affiliation to the sacred object.

Determinations Made by the U.S. Department of the Interior, Bureau of Indian Affairs, Washington, DC, and the Arizona State Museum, University of Arizona

Officials of the U.S. Department of the Interior, Bureau of Indian Affairs, Washington, DC, and the Arizona State Museum, University of Arizona, have determined that:

• Pursuant to 25 U.S.C. 3001(3)(C), the one cultural item described above is a specific ceremonial object needed by traditional Native American religious leaders for the practice of traditional Native American religions by their present-day adherents.

• Pursuant to 25 U.S.C. 3001(2), there is a relationship of shared group identity that can be reasonably traced between the sacred object and the Hopi Tribe of Arizona.

Additional Requestors and Disposition

Lineal descendants or representatives of any Indian tribe or Native Hawaiian organization not identified in this notice that wish to claim these cultural items should submit a written request with information in support of the claim to Anna Pardo, Museum Program Manager/NAGPRA Coordinator, U.S. Department of the Interior, Indian Affairs, 12220 Sunrise Valley Drive, Room 6084, Reston, VA 20191, telephone (703) 390-6343, email Anna.Pardo@bia.gov, by October 30, 2013. After that date, if no additional claimants have come forward, transfer of control of the sacred object to the Hopi Tribe of Arizona may proceed.

The Bureau of Indian Affairs is responsible for notifying the Hopi Tribe of Arizona that this notice has been published.

Dated: August 6, 2013.
Sherry Hutt,
Manager, National NAGPRA Program.

[FR Doc. 2013-23819 Filed 9-27-13; 8:45 am]

BILLING CODE 4312-50-P